DEPARTMENT OF TRANSPORTATION

Federal Railroad Administration

Notice of Application for Approval of Discontinuance or Modification of a Railroad Signal System or Relief From the Requirements of Title 49 Code of Federal Regulations Part 236

Pursuant to title 49 Code of Federal Regulations (CFR) part 235 and 49 U.S.C. 20502(a), the following railroad has petitioned the Federal Railroad Administration (FRA) seeking approval for the discontinuance or modification of the signal system or relief from the requirements of 49 CFR part 236 as detailed below.

Docket No. FRA-2004-17445

Applicant: Canadian National-Illinois Central Railroad, Mr. Leon Winn, Manager, Signals & Communications, 2921 Hornlake Road, Memphis, Tennessee 38109.

The Canadian National-Illinois Central Railroad seeks approval of the proposed modification of the manual interlocking at Southport Junction, milepost 908.6, on the McComb Subdivision, Gulf Division, near Southport, Louisiana. The proposed changes consist of the conversion of the No. 5 power-operated switch at Shell Lube to hand operation, removal of the 4LB absolute signal for northward movement from the Shell Lube track, and relocation of the 4LA absolute signal approximately 400 feet north of its present location on the switching track.

The reason given for the proposed changes is that the frequency of switching operation at this location does not justify the need for a power-operated switch.

Any interested party desiring to protest the granting of an application shall set forth specifically the grounds upon which the protest is made, and include a concise statement of the interest of the party in the proceeding. Additionally, one copy of the protest shall be furnished to the applicant at the address listed above.

All communications concerning this proceeding should be identified by the docket number and must be submitted to the Docket Clerk, DOT Central Docket Management Facility, Room PL-401 (Plaza Level), 400 7th Street, SW., Washington, DC 20590-0001. Communications received within 45 days of the date of this notice will be considered by the FRA before final action is taken. Comments received after that date will be considered as far as practicable. All written communications concerning these proceedings are available for examination during regular business hours (9 a.m.-5 p.m.) at the above facility. All documents in the public docket are also available for inspection and copying on the Internet at the docket facility's Web site at http://dms.dot.gov.

FRA wishes to inform all potential commenters that anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

FRA expects to be able to determine these matters without an oral hearing. However, if a specific request for an oral hearing is accompanied by a showing that the party is unable to adequately present his or her position by written statements, an application may be set for public hearing.

Issued in Washington, DC, on April 21, 2004.
Grady C. Cothen, Jr.,
Acting Associate Administrator for Safety Standards.

[FR Doc. 04-9436 Filed 4-23-04; 8:45 am]

BILLING CODE 4910-06-P